DEPARTMENT OF HEALTH AND HUMAN SERVICES

National Institutes of Health

2011 Technology Transfer Summit North America Conference

AGENCY: National Institutes of Health, Public Health Service, HHS.

ACTION: Notice of Conference.

SUMMARY: The NIH Office of Technology Transfer extends invitations to attend the 2011 Technology Transfer Summit North America Conference.

DATES: October 3-4, 2011.

ADDRESSES: NIH campus, 9000 Rockville Pike, Bethesda MD, NIH Clinical Center (Building 10), Masur Auditorium.

SUPPLEMENTARY INFORMATION: The NIH campus in Bethesda, MD will be the site for the 2011 Tech Transfer Summit North America (TTSNA), the leading early-stage biotech partnering, licensing, venture and innovation platform, co-hosted and co-sponsored by the NIH Office of Technology Transfer, TTS Ltd. and regional host partners such as BIO Maryland.

TTSNA is one of a series of summits held within the Global Tech Transfer Initiative and is designed specifically to put innovators, early-stage SMEs and technology managers from leading universities and research institutes together with biotech & pharma licensing & business development executives, VCs, serial entrepreneurs, and leading IP specialists for interactive sessions relating to partnering, licensing & business development.

Conference speakers for the 2011 include:

—Kathy Hudson, Deputy Director, National Institutes of Health (NIH)

—James C. Greenwood, President & CEO, BIO

—Shiv Krishnan, Director, Scouting & Partnering, Sanofi, USA

—Sanjeev Munshi, Director, Licensing and External Research, Merck & Co

—David Kaslow, Head of Vaccines Project & Pipeline Leadership, Merck & Co

—Ed Mascioli, Head of Orphan & Genetic Diseases Research Unit, Pfizer

—Arthur Tzianabos, Vice President of Research, HGT Division, Shire

—Steve Groft, Director, Office of Rare Diseases Research, NIH

—Phil Ross, Managing Director, Healthcare, JPMorgan

—Maarten deJong, Managing Director, Barclays Capital

—Andrew Robertson, Chief Policy Officer, BIO Ventures for Global Health

—Orin Herskowitz, Executive Director & Vice President, Intellectual Property Technology Transfer, Columbia Technology Ventures

—Erik Lium, Assistant Vice Chancellor of Research, UCSF

—Brian Kelly, Director, Technology, Enterprise & Commercialisation, Weill Cornell Medical College

—Daniel Perez, Partner, Bay City Capital

—Hubert Birner, Partner, TVM Capital

—Glen Steinbach, COO, Johns Hopkins Technology Transfer

—Markus Goebel, Managing Director, Novartis Venture Fund

The Summit will strive to induce interactive debate, deliberation and discussion, networking and business over the 2-day period with the leaders in the sector. The Summit conference will be further enhanced by the TTS Initiative Business Social Network, an online business-networking platform powered by JuJaMa. The Network is a communication tool for business that will allow the posting of profiles and technology offers; the searching of other participants by category, by technology or licensing offer; and the setting up of meetings prior to, during and after the Summit. Total participation numbers for this conference will be strictly limited to ensure the ideal environment for real discussion and business.

FOR FURTHER INFORMATION CONTACT: More details about the conference including registration information and the conference agenda can be found by contacting Tech Transfer Summit North America (http://www.techtransfersummit.com/northamerica2011). Attendees may also enter the Partner Code “NIH11” to register with a 10% reduction. For information about sign language interpretation or accommodation for disabilities, please contact Sharon Fields at telephone 301-594-7700 or fieldssh@od.nih.gov.

Dated: August 16, 2011.
Steven M. Ferguson,
Deputy Director, Licensing & Entrepreneurship, Office of Technology Transfer, National Institutes of Health.

[FR Doc. 2011-21514 Filed 8-22-11; 8:45 am]

BILLING CODE 4140-01-P